DEPARTMENT OF AGRICULTURE

Federal Crop Insurance Corporation

7 CFR Part 457

RIN 0563-AC09

Common Crop Insurance Regulations; Grape Crop Insurance Provisions and Table Grape Crop Insurance Provisions; Correction

AGENCY: Federal Crop Insurance Corporation, USDA.

ACTION: Final rule; correction.

SUMMARY: On July 7, 2009, the Federal Crop Insurance Corporation (FCIC) published amendments to the Common Crop Insurance Regulations, Grape Crop Insurance Provisions and Table Grape Crop Insurance Provisions. Due to an editing error, a definition was constructed with incorrect paragraph designations. This document corrects that error.

DATES: Effective Date: This correction is effective August 6, 2009.

FOR FURTHER INFORMATION CONTACT: Elizabeth Lopez, Risk Management Specialist, Product Management, Product Administration and Standards Division, Risk Management Agency, United States Department of Agriculture, Beacon Facility, Stop 0812, Room 421, P.O. Box 419205, Kansas City, MO 64141-6205, telephone (816) 926-7730.

SUPPLEMENTARY INFORMATION: In FR Rule Document No. 2009-15498, published July 7, 2009 (74 FR 32049), make the following correction:

On page 32057, in the center column, revise the definition of USDA grade standard to read as follows:

USDA grade standard. (1) United States standard used to determine the minimum quality grade will be:

(i) The United States Standards for Grades of Table Grapes (European or Vinifera Type);

(ii) The United States Standards for Grades of American (Eastern Type Bunch Grapes); and

(iii) The United States Standards for Grades of Muscadine (Vitis rotundifolia) Grapes.

(2) The quantity and number of samples required will be determined in accordance with procedure issued by FCIC or as provided on the Special Provisions of Insurance.

Signed in Washington, DC, on July 14, 2009.
William J. Murphy,
Manager, Federal Crop Insurance Corporation.

[FR Doc. E9-17183 Filed 7-17-09; 8:45 am]

BILLING CODE 3410-08-P